DEPARTMENT OF COMMERCE

Census Bureau

Current Population Survey (CPS)—Race and Ethnicity Supplement

ACTION: Proposed collection; comment request.

SUMMARY: The Department of Commerce, as part of its continuing effort to reduce paperwork and respondent burden, invites the general public and other federal agencies to take this opportunity to comment on proposed and/or continuing information collections, as required by the Paperwork Reduction Act of 1995, Pub. L. 104-13 (44 U.S.C. 3506(c)(2)(A)).

DATES: Written comments must be submitted on or before April 23, 2002.

ADDRESSES: Direct all written comments to Madeleine Clayton, Departmental Paperwork Clearance Officer, Department of Commerce, Room 6086, 14th and Constitution Avenue, NW., Washington, DC 20230 (or via the Internet at mclayton@doc.gov).

FOR FURTHER INFORMATION CONTACT: Requests for additional information or copies of the information collection instrument(s) and instructions should be directed to Teresa Hicks, Census Bureau, FOB 3, Room 3340, Washington, DC 20233-8400, (301) 457-3806.

SUPPLEMENTARY INFORMATION:

I. Abstract

The Census Bureau plans to request clearance for the collection of data concerning the Race and Ethnicity Supplement to be conducted in conjunction with the May 2002 CPS. Title 13, United States Code, Section 182, and Title 29, United States Code, Sections 1-9, authorize the collection of the CPS information. The Census Bureau is sponsoring this supplement.

Per Office of Management and Budget mandate, the CPS must revise its collection of race and ethnic data in January 2003. In order for the Bureau of Labor Statistics (BLS) to properly analyze the impact of this revision on the CPS data, a set of overlap statistics showing the effect of this change is necessary. The May supplement will ask the race and ethnicity questions identically to how they will be asked in January 2003. The result will be a complete set of labor force statistics from the CPS that will contain race and ethnicity data captured with both the current and the January 2003 procedures. This dataset will allow the BLS and other users of CPS data to comprehend the impact of the change in the race and ethnicity questions on statistics derived from the CPS.

II. Method of Collection

The race and ethnicity information will be collected by both personal visit and telephone interviews in conjunction with the regular May CPS interviewing. All interviews are conducted using computer-assisted interviewing.

III. Data

OMB Number: None.

Form Number: There are no forms. We conduct all interviews on computers.

Type of Review: Regular.

Affected Public: Households.

Estimated Number of Respondents: 57,000.

Estimated Time Per Response: 1.35 minutes.

Estimated Total Annual Burden Hours: 1,283.

Estimated Total Annual Cost: The only cost to respondents is that of their time.

Respondent's Obligation: Voluntary.

Legal Authority: Title 13, U.S.C., Section 182, and Title 29, U.S.C., Sections 1-9.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for the Office of Management and Budget approval of this information collection; they also will become a matter of public record.

Dated: February 19, 2002.
Gwellnar Banks,
Management Analyst, Office of the Chief Information Officer.

[FR Doc. 02-4310 Filed 2-21-02; 8:45 am]

BILLING CODE 3510-07-P